Title 3—

The President

Proclamation 7272 of February 11, 2000

National Consumer Protection Week, 2000

By the President of the United States of America

A Proclamation

Americans have long enjoyed shopping from the comfort of their homes. Door-to-door sales and mail-order catalogs have given consumers the opportunity to choose from a wide variety of products while saving precious time for family and personal interests. As we move into the digital age, the Internet and other information technologies have made electronic commerce possible, and on-line shopping is opening doors for consumers, established retailers, and small entrepreneurs across the Nation. With these opportunities, however, come certain risks for home shoppers. Advances in telecommunications and marketing technology bring new opportunities for unfair, deceptive, or fraudulent practices that target consumers where they live. It is now easier than ever for perpetrators of fraud to reach shoppers in their homes; consequently, it is more important than ever that consumers know their rights, understand the risks, and know to whom they can turn for recourse.

While there are risks to home shopping, including unwanted solicitations, ill-advised purchases, and failure to deliver items purchased, consumers can protect themselves against these dangers by taking basic, commonsense precautions. Home shoppers should ascertain the seller's location and reputation; give out personal information only if they know who is collecting it, why it is being collected, and how it will be used; and report problems that they cannot resolve with the vendor.

In order to protect consumers, the Federal Trade Commission, the Department of Justice, the Consumer Federation of America, the American Association of Retired Persons, the National Association of Consumer Agency Administrators, and the National Association of Attorneys General have joined forces to inform Americans about their rights as home shoppers, about merchant responsibilities, and about how to enjoy safely the benefits of shopping from home. This information is available in writing, by telephone, and on-line, helping to educate consumers about such issues as how to stop unwanted telemarketing or mail-order solicitations and when to provide private information to an on-line business.

I encourage all Americans to take advantage of this opportunity to learn more about safe shopping from home. By becoming wise and well-informed consumers, we can reduce the incidence of fraud and deception in the marketplace.

NOW, THEREFORE, I, WILLIAM J. CLINTON, President of the United States of America, by virtue of the authority vested in me by the Constitution and the laws of the United States, do hereby proclaim February 14 through February 20, 2000, as National Consumer Protection Week. I call upon government officials, industry leaders, consumer advocates, and the American people to participate in programs promoting safe and reliable shopping from home and to raise public awareness about the dangers of deceptive and fraudulent practices targeting home shoppers.

IN WITNESS WHEREOF, I have hereunto set my hand this eleventh day of February, in the year of our Lord two thousand, and of the Independence of the United States of America the two hundred and twenty-fourth.

wj

[FR Doc. 00-3864

Filed 2-15-00; 8:45 am]

Billing code 3195-01-P